DEPARTMENT OF TRANSPORTATION

Federal Aviation Administration

Notice of Intent To Rule on Application To Impose and Use the Revenue From a Passenger Facility Charge (PFC) at Fort Lauderdale-Hollywood International Airport, Fort Lauderdale, FL

AGENCY: Federal Aviation Administration (FAA), DOT.

ACTION: Notice of intent to rule on application.

SUMMARY: The FAA proposes to rule and invites public comment on the application to impose and use the revenue from a PFC at Fort Lauderdale-Hollywood International Airport under the provisions of the Aviation Safety and Capacity Expansion Act of 1990 (Title IX of the Omnibus budget Reconciliation Act of 1990) (Public Law 101-508) and Part 158 of the Federal Aviation Regulations (14 CFR part 158).

DATES: Comments must be received on or before May 30, 2003.

ADDRESSES: Comments on this application may be mailed or delivered in triplicate to the FAA at the following address: Orlando Airports District Office, 5950 Hazeltine National Drive, Suite 400, Orlando, FL 32822.

In addition, one copy of any comments submitted to the FAA must be mailed or delivered to William F. Sherry, Director of Aviation of the Broward County Aviation Department at the following address: Broward County Aviation Department, 320 Terminal Drive, Fort Lauderdale, FL 33315.

Air carriers and foreign air carriers may submit copies of written comments previously provided to the Broward County Aviation Department under § 158.23 of part 158.

FOR FURTHER INFORMATION CONTACT: Matthew J. Thys, Program Manager, Orlando Airports District Office, 5950 Hazeltine National Drive, Suite 400, Orlando, FL 32822, (407-812-6331, Ext. 21. The application may be reviewed in person at this same location.

SUPPLEMENTARY INFORMATION: The FAA proposes to rule and invites public comment on the application to impose and use the revenue from a PFC at Fort Lauderdale-Hollywood International Airport under the provisions of the Aviation Safety and Capacity Expansion Act of 1990 (Title IX of the Omnibus Budget Reconciliation Act of 1990) (Public Law 101- 508) and part 158 of the Federal Aviation Regulations (14 CFR part 158).

On Date of Letter of Completeness, the FAA determined that the application to impose and use the revenue from a PFC submitted by Broward County was substantially complete within the requirements of section 158.25 of Part 158. The FAA will approve or disapprove the application, in whole or in part, no later than July 25, 2003.

The following is a brief overview of the application.

PFC Application No.: 03-05-C-00-FLL.

Level of the Proposed PFC: $3.00

Proposed charge effective date: March 1, 2008.

Proposed charge expiration date: March 1, 2011.

Total estimated net PFC revenue: $91,967,755.

Brief description of proposed project(s): Exit Roadways (Pre-Design), Concourse A (Pre-Design), Concourse A Apron (Pre-Design), International terminal—FIS, Automated People Mover (Pre-Design), Master Plan Update, Taxiway C—West of RW 13/31, Taxiway C—East of RW 13/31 (Design), Exit Roadways (Design & Construction).

Class or classes or air carriers which the public agency has requested not be required to collect PFCs: Air Taxi/Commercial Operators filing FAA Form 1800-31.

Any person may inspect the application in person at the FAA office listed above under FOR FURTHER INFORMATION CONTACT.

In addition, any person may, upon request, inspect the application, notice and other documents germane to the application in person at the Broward County Aviation Department.

Issued in Orlando, FL on Current Date.
W. Dean Stringer,
Manager, Orlando Airports District Office, Southern Region.

[FR Doc. 03-10577 Filed 4-29-03; 8:45 am]

BILLING CODE 4910-13-M